DEPARTMENT OF COMMERCE

National Telecommunications and Information Administration

Tennessee Broadband Summit Conference

AGENCY: National Telecommunications and Information Administration, U.S. Department of Commerce and Tennessee Department of Economic and Community Development.

ACTION: Notice of open meeting.

SUMMARY: The National Telecommunications and Information Administration's BroadbandUSA Program, in partnership with the Tennessee Department of Economic and Community Development, will host a Broadband Summit about “Creating Partnerships to Ensure Access for All” on March 20, 2018. Speakers and attendees from Tennessee, federal agencies, and across the country will come together to explore ways to increase broadband deployment and improve broadband adoption to advance their overarching business, social, economic, and community goals. This Summit will highlight the initiatives and outreach driven through the newly enacted Tennessee Broadband Accessibility Act, which promotes broadband deployment thorough grants to providers, tax credits, deregulation, and education.

DATES: The Broadband Summit will be held on March 20, 2018, from 8:00 a.m. to 5:00 p.m., Central Time.

ADDRESSES: The meeting will be held in Nashville, Tennessee at the William Snodgrass Tennessee Tower, 312 Rosa L Parks Avenue, Tennessee Room, 3rd Floor, Nashville, TN 37243.

FOR FURTHER INFORMATION CONTACT: Janice Wilkins, National Telecommunications and Information Administration (NTIA), U.S. Department of Commerce, Room 4678, 1401 Constitution Avenue NW, Washington, DC 20230; telephone: (202) 482-5791; email: jwilkins@ntia.doc.gov. Please direct media inquiries to NTIA's Office of Public Affairs, (202) 482-7002; email: press@ntia.doc.gov.

SUPPLEMENTARY INFORMATION: The NTIA's BroadbandUSA program promotes innovation and economic growth by supporting efforts to expand broadband access and meaningful use across America. The Tennessee Department of Economic and Community Development (TNECD) is responsible for implementing the Tennessee Broadband Accessibility Act (TBAA), which facilitates broadband access to all Tennesseans while promoting practices that increase deployment and encourage adoption. The “Creating Partnerships to Ensure Access for All” Broadband Summit will facilitate the sharing of best practices for public-private partnerships to improve broadband deployment, enhance digital skills, and stimulate innovation and economic development.

The Summit is open to the public. Pre-registration is requested, and space is limited. NTIA asks registrants to provide their first and last names and email addresses for both registration purposes and to receive any updates on the workshop. Registration information, meeting updates, changes in the agenda, if any, and relevant documents will be available on NTIA's website at https://www2.ntia.doc.gov/tennessee-broadband-summit-03202018.

The public meeting is physically accessible to people with disabilities. Individuals requiring accommodations, such as language interpretation or other ancillary aids, should notify Janice Wilkins at the contact information listed above at least five (5) business days before the meeting so that accommodations can be made.

Dated: January 11, 2018.
Kathy D. Smith,
Chief Counsel, National Telecommunications and Information Administration.

[FR Doc. 2018-00689 Filed 1-16-18; 8:45 am]

BILLING CODE 3510-60-P